SMALL BUSINESS ADMINISTRATION

Ascent Venture Partners IV-A, L.P., License No. 01/01-0404; Notice Seeking Exemption Under Section 312 of the Small Business Investment Act, Conflicts of Interest

Notice is hereby given that Ascent Venture Partners IV-A, L.P., 255 State Street, 5th Floor, Boston, MA 02109, a Federal Licensee under the Small Business Investment Act of 1958, as amended (“the Act”), in connection with the sale of its interests in four small concerns, has sought an exemption under Section 312 of the Act and Section 107.730, Financings which Constitute Conflicts of Interest of the Small Business Administration (“SBA”) Rules and Regulations (13 CFR 107.730). Ascent Venture Partners IV-A, L.P. proposes to sell a portion of its interests in the four small concerns to a secondary buyer (“Buyer”). The Buyer will pay the management company of Ascent Venture Partners IV-A, L.P. an annual fee to monitor the assets for the Buyer.

The transaction is brought within the purview of § 107.730 of the Regulations because the management company of Ascent Venture Partners IV-A, L.P. is an Associate of Ascent Venture Partners IV-A, L.P.

Therefore, this transaction is considered a self-deal pursuant to 13 CFR 107.730 and requires an exemption. Notice is hereby given that any interested person may submit written comments on the transaction within fifteen days of the date of this publication to Associate Administrator for Investment, U.S. Small Business Administration, 409 Third Street SW., Washington, DC 20416.

Dated: June 27, 2012.
Sean J. Greene,
Associate Administrator for Investment.

[FR Doc. 2012-17516 Filed 7-17-12; 8:45 am]

BILLING CODE P